DEPARTMENT OF HEALTH AND HUMAN SERVICES

National Institutes of Health

Eunice Kennedy Shriver National Institute of Child Health & Human Development Amended Notice of Meeting

Notice is hereby given of a change in the meeting of the National Institute of Child Health and Human Development Special Emphasis Panel, Fertility and Infertility Preservation for Patients with Diseases that Previously Precluded Reproduction, April 15, 2020, 08:00 a.m. to April 15, 2020, 05:00 p.m., NICHD Offices, 6710B Rockledge Drive, Bethesda, MD, 20892 which was published in the Federal Register on March 06, 2020, 85 FR 10707.

The meeting format has changed from an in-person meeting to a teleconference. The meeting is closed to the public.

Dated: March 16, 2020.
Ronald J. Livingston, Jr.,
Program Analyst, Office of Federal Advisory Committee Policy.

[FR Doc. 2020-05821 Filed 3-19-20; 8:45 am]

BILLING CODE 4140-01-P